DEPARTMENT OF COMMERCE

National Oceanic and Atmospheric Administration

[RTID 0648-XB343]

South Atlantic Fishery Management Council; Public Meetings; Correction

AGENCY: National Marine Fisheries Service (NMFS), National Oceanic and Atmospheric Administration (NOAA), Commerce.

ACTION: Notice of correction of public meetings.

SUMMARY: The South Atlantic Fishery Management Council (Council) will hold meetings of the following: Snapper Grouper Committee; Dolphin Wahoo Committee; Mackerel Cobia Committee; and Habitat and Ecosystem-Based Management Committee. The meeting week will also include a formal public comment session and a meeting of the Full Council.

DATES: The Council meeting will be held from 1 p.m. on Monday, September 13, 2021, until 12 p.m. on Friday, September 17, 2021.

ADDRESSES: Meeting address: The meeting will be held via webinar. Registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: The original notice published in the Federal Register on August 23, 2021 (86 FR 47063). Due to the ongoing COVID-19 situation and increasing transmission rates in the region, the September 13-17, 2021 meeting of the South Atlantic Fishery Management Council will be held via webinar. The meeting was originally scheduled to take place in person in Charleston, SC.

Meeting information, including agendas, overviews, and briefing book materials will be posted on the Council's website at: http://safmc.net/safmc-meetings/council-meetings/. Webinar registration links for the meeting will also be available from the Council's website.

Authority: 16 U.S.C. 1801 et seq.

Dated: August 30, 2021.
Tracey L. Thompson,
Acting Deputy Director, Office of Sustainable Fisheries, National Marine Fisheries Service.

[FR Doc. 2021-19023 Filed 9-2-21; 8:45 am]

BILLING CODE 3510-22-P